DEPARTMENT OF STATE

[Public Notice 11668]

Notice of Department of State Sanctions Actions Pursuant to the Countering America's Adversaries Through Sanctions Act (CAATSA) and the Protecting Europe's Energy Security Act (PEESA), as amended

SUMMARY: The Secretary of State has imposed sanctions on one entity and identified one vessel as blocked property pursuant to the Countering America's Adversaries Through Sanctions Act (CAATSA) and the Protecting Europe's Energy Security Act (PEESA), as amended.

DATES: The Secretary of State's determination and selection of certain sanctions to be imposed upon the one entity and one vessel identified in the SUPPLEMENTARY INFORMATION section pursuant to CAATSA were effective on January 19, 2021 and the Secretary of State's determination and imposition of sanctions to be imposed upon the one entity and one vessel identified in the SUPPLEMENTARY INFORMATION section pursuant to PEESA were effective on February 22, 2021.

FOR FURTHER INFORMATION CONTACT: Anthony Musa, mussad@state.gov, Phone: (202) 647-1925.

SUPPLEMENTARY INFORMATION: Pursuant to Section 232 of Countering America's Adversaries Through Sanctions Act (CAATSA), as delegated, the Secretary of State, in consultation with the Secretary of the Treasury, the Secretary of Commerce, the Secretary of Homeland Security, and the United States Trade Representative, and with the President of the Export-Import Bank, the Chairman of the Board of Governors of the Federal Reserve System, and other agencies and officials as appropriate, is authorized to impose on a person any of the sanctions described in Section 232 of Countering America's Adversaries Through Sanctions Act (CAATSA) upon determining that the person met any criteria set forth in sections 232(a)(1)-232(c) of Countering America's Adversaries Through Sanctions Act (CAATSA).

Pursuant to Section 7503(a)(1)(A) of PEESA, as amended, the Secretary of State, in consultation with the Secretary of the Treasury, shall submit every 90 days a report to the appropriate congressional committees that identifies vessels that engaged in pipe-laying or pipe-laying activities at depths of 100 feet or more below sea level for the construction of the Nord Stream 2 pipeline project, the Turkstream pipeline project, or any project that is a successor to either such project. Pursuant to Section 7503(a)(1)(B) of PEESA, as amended, the Secretary of State, in consultation with the Secretary of the Treasury shall also include in the report foreign persons that the Secretary of State, in consultation with the Secretary of the Treasury, determines have knowingly sold, leased, or provided, or facilitated selling, leasing, or providing, those vessels for the construction of such a project. Pursuant to Section 7503(c) of PEESA, as delegated, the Secretary of the Treasury, in consultation with the Secretary of State, shall exercise all powers granted to the President by the International Emergency Economic Powers Act to the extent necessary to block and prohibit all transactions in all property and interests in property of any person identified under subsection (a)(1)(B) of PEESA if such property and interests in property are in the United States, come within the United States, or are or come within the possession or control of a United States person.

The Secretary of State has determined, pursuant to Section 232(a)(1) of Countering America's Adversaries Through Sanctions Act (CAATSA), that KVT-RUS, has knowingly, on or after July 15, 2020, made an investment described in subsection (b), or sold, leased, or provided to the Russian Federation, for the construction of Russian energy export pipelines, goods, services, technology, information, or support described in subsection (c), any of which has a fair market value of $1,000,000 or more, or that during a 12 month period, have an aggregate fair market value of $5,000,000 or more.

The Secretary of State has additionally determined, pursuant to Section 7503(a)(1)(B)(i) of Protecting Europe's Energy Security Act (PEESA), as amended, that KVT-RUS, has knowingly, on or after January 1, 2021, sold, leased, or provided, or facilitated selling, leasing, or providing, a vessel that engaged in pipe-laying or pipe-laying activities at depths of 100 feet or more below sea level for the construction of the Nord Stream 2 pipeline project.

Pursuant to sections 232(a)(1) and 235 of Countering America's Adversaries Through Sanctions Act (CAATSA) and E.O. 13849, the Secretary of State has selected the following sanctions to be imposed upon KVT-RUS:

• Order the United States Government not to issue any specific license and not to grant any other specific permission or authority to export any goods or technology to KVT-RUS (section 235(a)(2));

• Prohibit any transactions in foreign exchange that are subject to the jurisdiction of the United States and in which KVT-RUS has any interest (section 235(a)(7));

• Prohibit any transfers of credit or payments between financial institutions or by, through, or to any financial institution, to the extent that such transfers or payments are subject to the jurisdiction of the United States and involve any interest of KVT-RUS (section 235(a)(8));

• Prohibit any person from acquiring, holding, withholding, using, transferring, withdrawing, transporting, importing, or exporting any property that is subject to the jurisdiction of the United States and with respect to which KVT-RUS has any interest (section 235(a)(9)(A); dealing in or exercising any right, power, or privilege with respect to such property (section 235(a)(9)(B)); or conducting any transaction involving such property (section 235(a)(9)(C));

• Prohibit any United States person from investing in or purchasing significant amounts of equity or debt instruments of KVT-RUS (section 235(a)(10);

• Block all property and interests in property of KVT-RUS that are in the United States, that hereafter come within the United States, or that are or hereafter come within the possession or control of any United States person, and provide that such property and interests in property may not be transferred, paid, exported, withdrawn, or otherwise dealt in (E.O. 13849 Section 1(a)(iv)).

Pursuant to Section 7503(c) of PEESA, as amended, Sections 232(a)(1) and 235 of CAATSA, and E.O. 13849, KVT-RUS has been added to the Specially Designated Nationals and Blocked Persons List.

All property and interests in property of KVT-RUS subject to U.S. jurisdiction are blocked.

The following vessels subject to U.S. jurisdiction are blocked:

Fortuna (IMO 8674156)

Whitney Baird,
Principal Deputy Assistant Secretary of State, Bureau of Economic and Business Affairs, Department of State. Bureau of Economic and Business Affairs, Department of State.

[FR Doc. 2022-09564 Filed 5-3-22; 8:45 am]

BILLING CODE 4710-AE-P